DEPARTMENT OF ENERGY

Federal Energy Regulatory Commission

[Docket No. RM93-11-000]

Revisions to Oil Pipeline Regulations Pursuant to the Energy Policy Act of 1992

May 19, 2000.

AGENCY: Federal Energy Regulatory Commission, Department of Energy.

ACTION: Notice of annual change in the Producer Price Index for Finished Goods, minus one percent.

SUMMARY: The Commission is issuing the index that oil pipelines must apply to their July 1, 1999-June 30, 2000 index ceiling levels to compute their index ceiling levels for the period July 1, 2000 through June 30, 2001, in accordance with 18 CFR 342.3(d). This index, which is the percent change (expressed as a decimal) in the annual average Producer Price Index for Finished Goods from 1998 to 1999, minus one percent, is 0.007598. Oil pipelines must multiply their July 1, 1999-June 30, 2000 index ceiling levels by 1.007598 to compute their index ceiling levels for the period July 1, 2000 through June 30, 2001.

FOR FURTHER INFORMATION CONTACT: David Ulevich, Office of Markets, Tariffs, and Rates, Corporate Applications, Group 2, Federal Energy Regulatory Commission, 888 First Street, NE, Washington, DC 20426, (202) 208-0678.

SUPPLEMENTARY INFORMATION: In addition to publishing the full text of this document in the Federal Register, the Commission provides all interested persons an opportunity to view and/or print the contents of this document via the Internet through FERC's Home Page (http://www./ferc./fed.us) and in FERC's Public Reference Room during normal business hours (8:30 a.m. to 5:00 p.m. Eastern time) at 888 First Street, N.E., Room 2A, Washington, DC 20426.

From FERC's Home Page on the Internet, this information is available in both the Commission Issuance Posting System (CIPS) and the Records and Information management System (RIMS).

CIPS provides access to the texts of formal documents issued by the Commission since November 14, 1994. CIPS can be accessed using the CIPS link or the Energy Information Online icon. The full text of this document is available on CIPS in ASCII and WordPerfect 8.0 format for viewing, printing, and/or downloading.

RIMS contains images of documents submitted to an issued by the Commission after November 16, 1981. Documents from November 1995 to the present can be viewed and printed from FERC's Home page using the RIMS link or the Energy Information Online icon. Descriptions of documents back to November 16, 1981, are also available from RIMS-on-the-Web; requests for copies of these and other older documents should be submitted to the Public Reference Room.

User assistance is available for RIMS, CIPS, and the Website during normal business hours from our Help line at (202) 208-222 (E-Mail to WebMaster@ferc.fed.us) or the Public Reference at (202) 208-1371 (E-Mail to public.reference room@ferc.fed.us).

During normal business hours, documents can also be viewed and/or printed in FERC's Public Reference Room where RIMS, CIPS, and the FERC Website are available. User assistance is also available.

The Commission's regulations include a methodology for oil pipelines to change their rates through use of an index system that establishes ceiling levels for such rates. The index system as set forth at 18 CFR 342.3 is based on the annual change in the Producer Price Index for Finished Goods (PPI-FG), minus one percent. The regulations provide that each year the Commission will publish an index reflecting the final change in the PPI-FG, minus one percent, after the final PPI-FG is made available by the Bureau of Labor Statistics in May of each calendar year.

The annual average PPI-FG index figure for 1998 was 130.7 and the annual average PPI-FG index figure for 1999 was 133.0.¹ Thus, the percent change (expressed as a decimal) in the annual average PPI-FG from 1998 to 1999, minus one percent is 0.007598.² Oil pipelines must multiply their July 1, 1999-June 30, 2000 index ceiling levels by 1.007598 ³ to compute their index ceiling levels for the period July 1, 2000, through June 30, 2001, in accordance with 18 CFR 342.3(d).

¹ The final figure for the annual average PPI-FG is published by the Bureau of Labor Statistics in mid-May of each year. This figure is publicly available from the Division of Industrial Prices and Price Indexes of the Bureau of Labor Statistics, at (202) 606-7705, and is available in print in August in Table 1 of the annual data supplement to the BLS publication Producer Price Indexes. The PPI data are also available via the Internet. The Internet address is http://www.fedstats.gov. This site contains data from a number of government agencies; to obtain the BLS data, click on agencies, then click on Bureau of Labor Statistics, then click on data, Most Requested Series, scroll to Producer Price Indexes-Commodities (Finished Goods), for the latest available data.

² [133.0-130.7]/130.7=0.017598-.01=0.007598.

³ 1+(0.007598)=1.007598.

To obtain July 1, 1999-June 30, 2000 ceiling levels, pipelines must first calculate their ceiling levels for the January 1, 1995-June 30, 1995 index period, by multiplying their December 31, 1994 rates by 1.002175. Pipelines must then multiply those ceiling levels by 0.996415 to obtain the July 1, 1995-June 30, 1996 ceiling levels. Then pipelines must multiply their July 1, 1995-June 30, 1996 ceiling levels by 1.009124 to obtain the July 1, 1996-June 30, 1997 ceiling levels, and multiply the July 1, 1996-June 30, 1997 ceiling levels by 1.016583 to obtain the July 1, 1997-June 30, 1998 ceiling levels. Pipelines then must multiply the July 1, 1997-June 30, 1998 ceiling levels by 0.993808 to obtain the July 1, 1998-June 30, 1999 ceiling levels. Then, pipelines must multiply the July 1, 1998-June 30, 1999 ceiling levels by 0.981654 to obtain the July 1, 1999-June 30, 2000 ceiling levels. Finally, pipelines must multiply the July 1, 1999-June 30, 2000 ceiling levels by 1.007698 to obtain the July 1, 2000-June 30, 2001 ceiling levels. See Explorer Pipeline Company, 71 FERC ¶ 61,416 at n.6 (1995) for an explanation of how ceiling levels must be calculated.

Linwood A. Watson, Jr.,
Acting Secretary.

[FR Doc. 00-13115 Filed 5-24-00; 8:45 am]

BILLING CODE 6717-01-M